DEPARTMENT OF COMMERCE

International Trade Administration

[A-357-810]

Notice of Final Rescission of Antidumping Duty Administrative Review; Oil Country Tubular Goods, Other Than Drill Pipe, from Argentina

AGENCY: Import Administration, International Trade Administration, Department of Commerce.

SUMMARY: On July 12, 2005, the Department of Commerce (the Department) published the preliminary rescission of antidumping administrative review on oil country tubular goods, other than drill pipe, from Argentina. The review covers one manufacturer/exporter, Siderca S.A.I.C. (Siderca). The period of review is August 1, 2003, through July 31, 2004. We gave interested parties an opportunity to comment on our preliminary rescission. We received no comments. Therefore, we are rescinding this administrative review.

EFFECTIVE DATE: September 6, 2005.

FOR FURTHER INFORMATION CONTACT: Fred Baker or Robert James, AD/CVD Operations, Office 7, Import Administration, International Trade Administration, U.S. Department of Commerce, 14th Street and Constitution Avenue, NW., Washington, DC 20230; telephone (202) 482-2924 and (202) 482-0649, respectively.

SUPPLEMENTARY INFORMATION:

Background

On July 12, 2005, the Department published its preliminary rescission of antidumping duty administrative review of oil country tubular goods, other than drill pipe, from Argentina. See Notice of Preliminary Rescission of Antidumping Duty Administrative Review; Oil Country Tubular Goods, Other Than Drill Pipe, from Argentina, 70 FR 39995 (July 12, 2005). We gave interested parties an opportunity to comment. No party submitted comments.

Period of Review

The period of review (POR) is August 1, 2003, through July 31, 2004.

Scope of the Review

Oil country tubular goods (OCTG) are hollow steel products of circular cross-section, including oil well casing and tubing of iron (other than cast iron) or steel (both carbon and alloy), whether seamless or welded, whether or not conforming to American Petroleum Institute (API) or non-API specifications, whether finished or unfinished (including green tubes and limited service OCTG products).

This scope does not cover casing or tubing pipe containing 10.5 percent or more of chromium. Drill pipe was excluded from this order beginning August 11, 2001. See Continuation of Countervailing and Antidumping Duty Orders on Oil Country Tubular Goods From Argentina, Italy, Japan, Korea and Mexico, and Partial Revocation of Those Orders From Argentina and Mexico With Respect to Drill Pipe, 66 FR 38630 (July 25, 2001).

The OCTG subject to this order are currently classified in the Harmonized Tariff Schedule of the United States (HTSUS) under item numbers: 7304.29.10.10, 7304.29.10.20, 7304.29.10.30, 7304.29.10.40, 7304.29.10.50, 7304.29.10.60, 7304.29.10.80, 7304.29.20.10, 7304.29.20.20, 7304.29.20.30, 7304.29.20.40, 7304.29.20.50, 7304.29.20.60, 7304.29.20.80, 7304.29.30.10, 7304.29.30.20, 7304.29.30.30, 7304.29.30.40, 7304.29.30.50, 7304.29.30.60, 7304.29.30.80, 7304.29.40.10, 7304.29.40.20, 7304.29.40.30, 7304.29.40.40, 7304.29.40.50, 7304.29.40.60, 7304.29.40.80, 7304.29.50.15, 7304.29.50.30, 7304.29.50.45, 7304.29.50.60, 7304.29.50.75, 7304.29.60.15, 7304.29.60.30, 7304.29.60.45, 7304.29.60.60, 7304.29.60.75, 7305.20.20.00, 7305.20.40.00, 7305.20.60.00, 7305.20.80.00, 7306.20.10.30, 7306.20.10.90, 7306.20.20.00, 7306.20.30.00, 7306.20.40.00, 7306.20.60.10, 7306.20.60.50, 7306.20.80.10, and 7306.20.80.50.

The HTSUS subheadings are provided for convenience and customs purposes. Our written description of the scope of this order is dispositive.

Rescission of Review

On October 18, 2004, Siderca informed the Department that it did not ship OCTG to the United States during the POR, and requested rescission of the administrative review. On April 19, 2005, the Department issued a supplemental questionnaire to Siderca. The Department attached to it a list of shipments of OCTG from Argentina that entered the United States during the POR that the Department had reason to believe had been manufactured by Siderca or its affiliates. We obtained this list from the U.S. Customs and Border Protection (CBP) by doing a CBP automated commercial service (ACS) data query. Siderca submitted its response on April 22, 2005. Siderca explained that it did not sell to the importer identified on the list of entries that we had attached to the April 19, 2005, supplemental questionnaire. The Department subsequently requested, and received from Customs, documentation regarding certain of those entries. We placed these documents on the record of this review on June 22, 2005, and gave parties an opportunity to comment. We received no comments. Based upon Siderca's explanation and the evidence on the record, we are satisfied that Siderca did not make any consumption entries, exports, or sales of subject merchandise during the POR.

Pursuant to 19 CFR 351.213(d)(3), the Department may rescind an administrative review, in whole or with respect to a particular exporter or producer, if the Secretary concludes that, during the period covered by the review, there were no entries, exports, or sales of the subject merchandise. Because the evidence shows that there were no entries of OCTG made by Siderca during the POR, the Department is rescinding this review in accordance with 19 CFR 351.213(d)(3).

We are issuing and publishing this notice in accordance with sections 751(a)(1) of the Tariff Act and 19 CFR 351.213(d)(4).

Dated: August 30, 2005.
Joseph A. Spetrini,
Acting Assistant Secretary for Import Administration.

[FR Doc. E5-4843 Filed 9-2-05; 8:45 am]

BILLING CODE 3510-DS-S